DEPARTMENT OF ENERGY

Federal Energy Regulatory Commission

Combined Notice of Filings No. 2

September 23, 2009.

Take notice that the Commission has received the following Natural Gas Pipeline Rate and Refund Report filings:

Docket Numbers: RP09-858-001.

Applicants: Trailblazer Pipeline Company LLC.

Description: Trailblazer Pipeline Company LLC submits Substitute First Revised Sheet No 300 et al. to its FERC Gas Tariff, Seventh Revised Volume No 1.

Filed Date: 09/10/2009.

Accession Number: 20090911-0060.

Comment Date: 5 p.m. Eastern Time on Tuesday, September 29, 2009.

Docket Numbers: RP09-826-002.

Applicants: Central New York Oil and Gas Co., LLC.

Description: Central New York Oil and Gas Company, LLC submits Substitute Second Revised Sheet No 103A et al. to FERC Gas Tariff, Original Volume No 1 to comply with the Commission's 9/3/09 Letter Order.

Filed Date: 09/18/2009.

Accession Number: 20090921-0067.

Comment Date: 5 p.m. Eastern Time on Wednesday, September 30, 2009.

Docket Numbers: RP96-320-116.

Applicants: Gulf South Pipeline Company, LP.

Description: Gulf South Pipeline Company, LP submits an amendment to a negotiated rate letter agreement executed by Gulf South and one of its customers in relation to the East Texas to Mississippi Expansion Project.

Filed Date: 09/18/2009.

Accession Number: 20090921-0065.

Comment Date: 5 p.m. Eastern Time on Wednesday, September 30, 2009.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. E9-23858 Filed 10-2-09; 8:45 am]

BILLING CODE 6717-01-P